Proclamation 10691 of December 28, 2023

Adjusting Imports of Steel Into the United States

By the President of the United States of America

A Proclamation

1. On January 11, 2018, the Secretary of Commerce (Secretary) transmitted to the President a report on the Secretary's investigation into the effect of imports of steel mill articles (steel articles) on the national security of the United States under section 232 of the Trade Expansion Act of 1962, as amended (19 U.S.C. 1862). The Secretary found and advised the President of his opinion that steel articles are being imported into the United States in such quantities and under such circumstances as to threaten to impair the national security of the United States.

2. In Proclamation 9705 of March 8, 2018 (Adjusting Imports of Steel Into the United States), the President concurred in the Secretary's finding that steel articles, as defined in clause 1 of Proclamation 9705, as amended by clause 8 of Proclamation 9711 of March 22, 2018 (Adjusting Imports of Steel Into the United States), are being imported into the United States in such quantities and under such circumstances as to threaten to impair the national security of the United States, and decided to adjust the imports of those steel articles by imposing a 25 percent ad valorem tariff on such articles imported from all countries except Canada and Mexico. The proclamation further stated that any country with which the United States has a security relationship is welcome to discuss alternative ways to address the threatened impairment of the national security caused by imports from that country, and noted that, should the United States and any such country arrive at a satisfactory alternative means to address the threat to the national security such that the President determines that imports from that country no longer threaten to impair the national security, the President may remove or modify the restriction on steel articles imports from that country and, if necessary, adjust the tariff as it applies to other countries, as the national security interests of the United States require.

3. In Proclamation 9711, the President noted the continuing discussions with the European Union (EU) on behalf of its member countries on satisfactory alternative means to address the threatened impairment to the national security by imports of steel articles from these countries. Recognizing that the member countries of the EU have an important security relationship with the United States, the President determined that the necessary and appropriate means to address the threat to the national security posed by imports of steel articles from these countries was to continue the ongoing discussions and to exempt steel articles imports from these countries from the tariff proclaimed in Proclamation 9705 until May 1, 2018.

4. In Proclamation 9740 of April 30, 2018 (Adjusting Imports of Steel Into the United States), the President noted that, unless the President determines by further proclamation that the United States has reached a satisfactory alternative means to remove the threatened impairment to the national security by imports of steel articles from the member countries of the EU, the tariff proclaimed in clause 2 of Proclamation 9705 shall be effective June 1, 2018, for these countries.

5. In Proclamation 10328 of December 27, 2021 (Adjusting Imports of Steel Into the United States), I noted that the United States successfully concluded discussions with the EU on behalf of its member countries on satisfactory alternative means to address the threatened impairment of the national security posed by steel articles imports from the EU. Specifically, the United States and the EU agreed to expand coordination involving trade remedies and customs matters, monitor bilateral steel and aluminum trade, cooperate on addressing non-market excess capacity, and annually review their arrangement for alternative means and their ongoing cooperation. In addition, the United States and the EU agreed to seek to conclude, by October 31, 2023, negotiations on global steel and aluminum arrangements to restore market-oriented conditions and support the reduction of carbon intensity of steel and aluminum across modes of production.

6. Pursuant to the agreement described in Proclamation 10328, the United States implemented a number of actions, including a tariff-rate quota that restricts the quantity of steel articles imported into the United States from the EU without the application of the tariff proclaimed in Proclamation 9705. I concluded that these measures provide an effective, long-term alternative means to address any contribution by EU steel articles imports to the threatened impairment of the national security by restraining steel articles imports to the United States from the EU, limiting transshipment, discouraging excess steel capacity and production, and strengthening the United States-EU partnership in a fashion that will better enable future arrangements. In light of that agreement, I also determined that specified volumes of eligible steel articles imports from the EU no longer threaten to impair the national security and decided to exclude such imports from the EU up to a designated quota from the tariff proclaimed in Proclamation 9705 through December 31, 2023. I determined that the alternative means, including the tariff-rate quota, advance the recommendations in the Secretary's January 2018 report. I also noted that the agreed-upon aggregate tariff-rate quota volume specified in the agreement between the United States and the EU, totaling 3.3 million metric tons, is consistent with the objective of reaching and maintaining a sufficient capacity utilization rate in the domestic steel industry.

7. During the past 2 years, the United States and the EU have made substantial progress to identify the sources of non-market excess capacity and the actions needed to address distortions resulting from that non-market excess capacity. The United States and the EU are continuing their discussions on global steel and aluminum arrangements to restore market-oriented conditions in their steel and aluminum sectors and support the reduction of the greenhouse gas emissions intensity of steel and aluminum across all modes of production. These discussions are anticipated to include alternative measures to prevent imports of steel from the EU from threatening the national security of the United States.

8. In light of the ongoing discussions and joint actions taken pursuant to the agreement described in Proclamation 10328, I have determined that the necessary and appropriate means to address the threat to the national security posed by imports of steel articles from the member countries of the EU is to continue the discussions and joint actions with the EU and to extend the tariff-rate quota that restricts the quantity of steel articles imported into the United States from the EU without the application of the tariff proclaimed in Proclamation 9705. In order to be eligible for in-quota treatment, steel articles must be melted and poured in the EU. In my judgment, these measures will provide an effective, long-term alternative means to address any contribution by EU steel articles imports to the threatened impairment of the national security by restraining steel articles imports to the United States from the EU, limiting transshipment, discouraging excess steel capacity and production, and strengthening the United States-EU partnership in a fashion that will better enable future arrangements.

9. In light of the ongoing discussions and joint actions taken pursuant to the agreement described in Proclamation 10328, I have determined that specified volumes of eligible steel articles imports from the EU will no longer threaten to impair the national security and have decided to exclude such imports from the EU up to a designated quota from the tariff proclaimed in Proclamation 9705 through December 31, 2025. The United States will monitor the implementation and effectiveness of the tariff-rate quota and other measures agreed upon with the EU in addressing our national security needs, and I may revisit this determination, as appropriate.

10. The alternative means, including the tariff-rate quota, advance the recommendations contained in the Secretary's January 2018 report. The agreed-upon aggregate tariff-rate quota volume specified in the 2021 agreement between the United States and the EU, totaling 3.3 million metric tons, remains consistent with the objective of reaching and maintaining a sufficient capacity utilization rate in the domestic steel industry.

11. In Proclamation 10328, the United States agreed to renew for 2 calendar years all exclusions that were granted and utilized to import steel products tariff-free from the EU in Fiscal Year 2021. The United States will renew for 2 calendar years all exclusions that were utilized to import steel products free from section 232 tariffs from the EU in Fiscal Year 2021 and the first quarter of calendar year 2022. These exclusions were granted by the Department of Commerce due to a lack of domestic availability of the specified products in the United States.

12. In light of my determination to adjust the tariff proclaimed in Proclamation 9705 as applied to eligible steel articles imported from the EU, I have considered whether it is necessary and appropriate in light of our national security interests to make any corresponding adjustments to such tariff as it applies to other countries. I have determined that it is necessary and appropriate, at this time, to maintain the current tariff level as it applies to other countries.

13. Section 232 of the Trade Expansion Act of 1962, as amended, authorizes the President to adjust the imports of an article and its derivatives that are being imported into the United States in such quantities or under such circumstances as to threaten to impair the national security.

14. Section 604 of the Trade Act of 1974, as amended (19 U.S.C. 2483), authorizes the President to embody in the Harmonized Tariff Schedule of the United States (HTSUS) the substance of statutes affecting import treatment, and actions thereunder, including the removal, modification, continuance, or imposition of any rate of duty or other import restriction.

NOW, THEREFORE, I, JOSEPH R. BIDEN JR., President of the United States of America, by the authority vested in me by the Constitution and the laws of the United States of America, including section 232 of the Trade Expansion Act of 1962, as amended, section 301 of title 3, United States Code, and section 604 of the Trade Act of 1974, as amended, do hereby proclaim as follows:

(1) Clause 2 of Proclamation 9705, as amended, is revised to read as follows:

“(2)(a) In order to establish certain modifications to the duty rate on imports of steel articles, subchapter III of chapter 99 of the HTSUS is modified as provided in the Annex to this proclamation and any subsequent proclamations regarding such steel articles.

(b) Except as otherwise provided in this proclamation, or in notices published pursuant to clause 3 of this proclamation, all steel articles imports covered by heading 9903.80.01, in subchapter III of chapter 99 of the HTSUS, shall be subject to an additional 25 percent ad valorem rate of duty with respect to goods entered for consumption, or withdrawn from warehouse for consumption, as follows: (i) on or after 12:01 a.m. eastern daylight time on March 23, 2018, from all countries except Argentina, Australia, Brazil, Canada, Mexico, South Korea, and the member countries of the European Union; (ii) on or after 12:01 a.m. eastern daylight time on June 1, 2018, from all countries except Argentina, Australia, Brazil, and South Korea; (iii) on or after 12:01 a.m. eastern daylight time on August 13, 2018, from all countries except Argentina, Australia, Brazil, South Korea, and Turkey; (iv) on or after 12:01 a.m. eastern daylight time on May 20, 2019, from all countries except Argentina, Australia, Brazil, South Korea, and Turkey; (v) on or after 12:01 a.m. eastern daylight time on May 21, 2019, from all countries except Argentina, Australia, Brazil, Canada, Mexico, and South Korea; (vi) on or after 12:01 a.m. eastern standard time on January 1, 2022, from all countries except Argentina, Australia, Brazil, Canada, Mexico, and South Korea, and except the member countries of the European Union through 11:59 p.m. eastern standard time on December 31, 2023, for steel articles covered by headings 9903.80.65 through 9903.81.19, inclusive; (vii) on or after 12:01 a.m. eastern daylight time on April 1, 2022, from all countries except Argentina, Australia, Brazil, Canada, Mexico, and South Korea, and except the member countries of the European Union through 11:59 p.m. eastern standard time on December 31, 2023, for steel articles covered by headings 9903.80.65 through 9903.81.19, inclusive, and from Japan, for steel articles covered by headings 9903.81.25 through 9903.81.80, inclusive; (viii) on or after 12:01 a.m. eastern daylight time on June 1, 2022, from all countries except Argentina, Australia, Brazil, Canada, Mexico, South Korea, and Ukraine through 11:59 p.m. eastern daylight time on June 1, 2023, and except the member countries of the European Union through 11:59 p.m. eastern standard time on December 31, 2023, for steel articles covered by headings 9903.80.65 through 9903.81.19, inclusive, and from Japan and the United Kingdom (UK), for steel articles covered by subheadings 9903.81.25 through 9903.81.78 and heading 9903.81.80, and from the member countries of the European Union, for steel articles covered by heading 9903.81.81; (ix) on or after 12:01 a.m. eastern daylight time on June 1, 2023, from all countries except Argentina, Australia, Brazil, Canada, Mexico, South Korea, and Ukraine through 11:59 p.m. eastern daylight time on June 1, 2024, and except the member countries of the European Union through 11:59 p.m. eastern standard time on December 31, 2023, for steel articles covered by headings 9903.80.65 through 9903.81.19, inclusive, and from Japan and the UK, for steel articles covered by subheadings 9903.81.25 through 9903.81.78 and heading 9903.81.80, and from the member countries of the European Union, for steel articles covered by heading 9903.81.81, and from the member countries of the European Union where the steel used in the manufacture of the steel article is melted and poured in Ukraine through 11:59 p.m. eastern daylight time on June 1, 2024; and (x) on or after 12:01 a.m. eastern standard time on January 1, 2024, from all countries except Argentina, Australia, Brazil, Canada, Mexico, South Korea, and Ukraine through 11:59 p.m. eastern daylight time on June 1, 2024, and except the member countries of the European Union through 11:59 p.m. eastern standard time on December 31, 2025, for steel articles covered by headings 9903.80.65 through 9903.81.19, inclusive, and from Japan and the UK, for steel articles covered by subheadings 9903.81.25 through 9903.81.78 and heading 9903.81.80, and from the member countries of the European Union, for steel articles covered by heading 9903.81.81, and from the member countries of the European Union where the steel used in the manufacture of the steel article is melted and poured in Ukraine through 11:59 p.m. eastern daylight time on June 1, 2024. Further, except as otherwise provided in notices published pursuant to clause 3 of this proclamation, all steel articles imports from Turkey covered by heading 9903.80.02, in subchapter III of chapter 99 of the HTSUS, shall be subject to a 50 percent ad valorem rate of duty with respect to goods entered for consumption, or withdrawn from warehouse for consumption, on or after 12:01 a.m. eastern daylight time on August 13, 2018, and prior to 12:01 a.m. eastern daylight time on May 21, 2019. All steel articles imports covered by heading 9903.80.61, in subchapter III of chapter 99 of the HTSUS, shall be subject to the additional 25 percent ad valorem rate of duty established herein with respect to goods entered for consumption, or withdrawn from warehouse for consumption, on or after 12:01 a.m. eastern time on the date specified in a determination by the Secretary granting relief. These rates of duty, which are in addition to any other duties, fees, exactions, and charges applicable to such imported steel articles, shall apply to imports of steel articles from each country as specified in the preceding three sentences”.

(2) Steel eligible for in-quota treatment under the tariff-rate quota implemented in Proclamation 10328 and extended in this proclamation must be melted and poured in a member country of the EU in order to receive such treatment. The Secretary, in consultation with the Secretary of Homeland Security and the United States Trade Representative, is authorized to take such actions as are necessary to ensure compliance with this requirement. Failure to comply could result in applicable remedies such as the collection of the tariff set forth in clause 2 of Proclamation 9705, or penalties under United States law.

(3) Imports of steel articles from member countries of the EU in excess of the tariff-rate quota quantities implemented in Proclamation 10328 and extended in this proclamation shall remain subject to the duties imposed by clause 2 of Proclamation 9705, as amended. The Secretary, in consultation with the United States Trade Representative and the Secretary of Homeland Security, shall recommend to the President, as warranted, updates to the in-quota volumes contained in this proclamation.

(4) Steel articles from a member country of the EU imported under an exclusion granted pursuant to clause 3 of Proclamation 9705, as amended, shall not count against the in-quota volume of the tariff-rate quota extended in this proclamation.

(5) The Secretary is directed to renew all utilized exclusions granted pursuant to clause 3 of Proclamation 9705, as amended, and utilized in Fiscal Year 2021 (October 1, 2020, through September 30, 2021) and the first quarter of calendar year 2022 (January 1, 2022, through March 31, 2022), for the import of steel articles from one or more member countries of the EU for a period of 2 years from the date of this proclamation. The renewed exclusions shall be for an annual volume equal to that volume imported from a member country of the EU pursuant to the exclusions in Fiscal Year 2021 and the first quarter of calendar year 2022. The Secretary shall communicate to U.S. Customs and Border Protection of the Department of Homeland Security the exclusions and the volumes of steel articles from member countries of the EU that are allowed under this provision. The Secretary shall, by publication on the internet, or by other means, inform importers of the availability and volume of exclusions renewed by this provision. This provision does not alter or modify in any way the ability of importers to seek additional exclusions in accordance with clause 3 of Proclamation 9705, as amended, and as implemented by the Department of Commerce, for the import of steel articles from a member country of the EU.

(6) U.S. note 16(f) to subchapter III of chapter 99 of the HTSUS is amended by inserting, at the end of the first sentence of such note subdivision, the phrase “, provided that such iron or steel products are melted and poured in any member country of the European Union” after the final appearance of the word “subdivision”.

(7) The modifications made by this proclamation shall be effective with respect to goods entered for consumption, or withdrawn from warehouse for consumption, on or after 12:01 a.m. eastern standard time on January 1, 2024, and shall continue in effect, unless such actions are expressly reduced, modified, or terminated.

(8) Any imports of steel articles from the member countries of the EU that were admitted into a United States foreign trade zone under “privileged foreign status” as defined in 19 CFR 146.41, prior to 12:01 a.m. eastern standard time on January 1, 2024, shall be subject upon entry for consumption made on or after 12:01 a.m. eastern standard time on January 1, 2024, to the provisions of the tariff-rate quota in effect at the time of the entry for consumption.

(9) Any provision of previous proclamations and Executive Orders that is inconsistent with the actions taken in this proclamation is superseded to the extent of such inconsistency.

IN WITNESS WHEREOF, I have hereunto set my hand this twenty-eighth day of December, in the year of our Lord two thousand twenty-three, and of the Independence of the United States of America the two hundred and forty-eighth.

[FR Doc. 2023-28996

Filed 1-2-24; 8:45 am]

Billing code 3395-F4-P